DEPARTMENT OF LABOR

Agency Information Collection Activities; Submission for OMB Review; Comment Request, Employment Transition Models Demonstration and Evaluation, New Collection

AGENCY: Office of the Assistant Secretary for Policy, Chief Evaluation Office, Department of Labor.

ACTION: Notice of Information Collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, DOL is soliciting comments concerning the collection of data about the Employment Transition Models Demonstration and Evaluation. A copy of the proposed Information Collection Request (ICR) can be obtained by contacting the office listed below in the addressee section of this notice.

DATES: Written comments must be submitted to the office listed in the addressee section below on or before November 18, 2025.

ADDRESSES: You may submit comments by either one of the following methods:

Email: ChiefEvaluationOffice@dol.gov; Mail or Courier: Neil Ridley, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Neil Ridley by email at ChiefEvaluationOffice@dol.gov or by phone at (202) 693-7915.

SUPPLEMENTARY INFORMATION:

I. Background

The Employment Transition Models (ETM) Demonstration and Evaluation is a joint effort by DOL's Chief Evaluation Office (CEO), Office of Disability Employment Policy (ODEP), and the Employment and Training Administration (ETA).

The ETM Demonstration includes five-year grants for state projects to (1) identify, develop, and scale evidence-based solutions or strategies that improve work-related outcomes among youth and young adults with disabilities (Y&YAD) and (2) increase states' capacity to create innovative employment strategies for them. The aim of the ETM Demonstration is to make America more prosperous and to save taxpayer dollars by implementing a direct employment-based service intervention for young people with disabilities to improve labor force participation and reduce the reliance on disability income benefits. This is important to the country and economy, and aligned to the Presidential Action, `Delivering Emergency Price Relief for American Families and Defeating the Cost-of-Living Crisis,' which instructed all departments and agencies to “create employment opportunities for American workers, including drawing discouraged workers into the labor force.” ETM grantees are implementing new, evidence-based strategies to increase the employment, post-secondary education, and economic independence of Y&YAD. The demonstration builds upon lessons learned from past projects designed to reduce the reliance of Y&YAD on Supplemental Security Income (SSI) and other disability benefits.

In 2024, ODEP awarded ETM Demonstration project grants to four states: Connecticut, Kansas, Minnesota, and New York.

CEO and ETA are also conducting a 5-year ETM Evaluation to build evidence on the implementation and outcomes of the strategies grantees use to enable Y&YAD to successfully transition into the workforce and post-secondary settings.

This Federal Register Notice provides the opportunity to comment on proposed plans for collecting data needed for both the demonstration and the evaluation: intake data, service receipt data, implementation data, and outcome data. These data will be used to produce the performance measures required for ETM grants, facilitate technical assistance (TA), and address the evaluation's requirements.

• Intake data include (a) baseline information for all Y&YAD participating in ETM projects (“ETM youth”) or collected from these Y&YAD with support from their guardians; and (b) information on referrals to ETM recorded by grantee staff for all ETM youth.

• Service receipt data will involve grantee staff tracking information on services that all ETM youth are receiving. ETM case managers will have to periodically review their notes and gather additional information from project partners, including service providers, and participants and their families, and enter data into the management information system (MIS). These data will track which services ETM participants have ever received and the frequency of case management.

• Implementation data consists of data collected by the evaluation team from a variety of parties involved with ETM to address the evaluation's requirements, including:

—Data on implementation activities collected through semi-structured interviews with ETM project directors, local site administrators, and case managers during grantee site visits. There will be two site visits with each grantee—the first in 2026 and the second in 2027. The site visits will help the evaluation team understand how the grantee's program was developed, operates, and matures into a full-scale implementation, as well as the context in which the program operates.

—Data on project partner collaboration activities collected through (1) partner survey for ETM local site administrators and (2) semi-structured telephone interviews with ETM local site administrators to understand collaboration among ETM partners in helping Y&YAD reach employment and career milestones. The survey will ask ETM staff to describe collaborations with up to 15 partners who serve ETM youth. The evaluation team will then conduct interviews to follow-up on the survey to learn more about the partners and their contributions to the delivery of ETM services. The evaluation will collect this data once in 2026 and 2027.

—Data on ETM program experiences collected during site visits through semi-structured interviews with ETM youth, focus groups with families of ETM youth, and semi-structured interviews with employers to better understand the needs, service experiences, and perspectives of these groups related to the demonstration.

• Outcome data, including:

—Data on satisfaction levels among ETM youth and their families, employers, and participating project partners. Data will be collected by ETM grantee staff annually on customer experience satisfaction to summarize how well ETM participants and project partners believed they were served by the demonstration project.

—Data on the employment and education outcomes of ETM youth collected, in part, from these youth and recorded by ETM grantee staff.

To reduce burden, the demonstration and evaluation will use existing data collected as part of the DOL Participant Individual Record Layout (PIRL), whenever possible, as well as national administrative records on employment and education outcomes. The PIRL data contain information covered by OMB Control Nos. 1205-0521 and 1205-0526, and will be combined with additional information collected for the demonstration and the evaluation in grantees' MIS records.

II. Desired Focus of Comments

Currently, DOL is soliciting comments concerning the above data collection for the Employment Transition Models Demonstration and Evaluation. DOL is particularly interested in comments that do the following:

○ evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

To generate the Estimated Annual Burden Hours in the table below, the evaluation team took estimates from ODEP and the TA provider on the number of respondents and duration of engagement. These intermediate values were then amortized over a three-year period. For example, the “baseline information from ETM” intake data (first row) estimates 898 annual respondents which corresponds to 2,682 youth over three years. ODEP and the TA provider estimate that, on average, the baseline information from ETM youth will take 23 minutes to collect; multiplying this estimate by annual number of respondents yields an estimated annual burden of 341.24 hours.

III. Current Actions

At this time, the Department of Labor is requesting clearance for baseline data collection, service receipt data, implementation data, outcome data collection, semi-structured interview protocols, family focus group interview protocols, and partner survey protocols.

Type of Review: New information collection request.

OMB Control Number: 1290-0NEW.

Affected Public: State, Local, or Tribal Government (Primary), and Individuals or Households.

Total Estimated Number of Respondents: 4,192.

Total Estimated Number of Responses: 11,360.

Total Estimated Annual Time Burden: 1,176 hours.

Total Estimated Annual Other Costs Burden: $0.

Comments submitted in response to this request will be summarized and/or included in the request for Office of Management and Budget approval of the information collection request; they will also become a matter of public record.

Estimated Annual Burden Hours
Data type and source | Annual number of respondents | Annual number of responses per respondent | Annual total number of responses | Average burden hours per response | Annual estimated burden hours
Intake Data
Baseline information from ETM youth | ᵃ 898 | 1 | 898 | 23/60 | 341.24
Youth referral information completed by ETM and partner staff | ᵇ 93 | 10 | 930 | 4/60 | 65.10
Service Receipt Data for ETM Youth | ᶜ 155 | 33.0 | 5,115 | 4/60 | 358.05
Implementation Data
Implementation Activities:
Semi-structured interviews with project directors | ᵈ 3 | 1 | 3 | 1.50 | 4.50
Semi-structured interviews with ETM local site administrators | ᵉ 6 | 1 | 6 | 1.00 | 6.00
Semi-structured interviews with ETM case managers | ᶠ 16 | 1 | 16 | 1.00 | 16.00
Partner Collaboration Activities:
Partner list survey for ETM local site administrators | ᵍ 13 | 1 | 13 | 1.00 | 13.00
Semi-structured interviews with ETM local site administrators on partner collaboration activities | ʰ 13 | 1 | 13 | 1.00 | 13.00
ETM Program Experiences:
Semi-structured interviews with ETM youth | ⁱ 27 | 1 | 27 | 1.00 | 27.00
Focus groups with families of ETM youth | ʲ 22 | 1 | 22 | 1.50 | 33.00
Semi-structured interviews with employers | ᵏ 7 | 1 | 7 | 1.00 | 7.00
Outcome Data
Customer Satisfaction:
Satisfaction data from ETM youth | ˡ 1,197 | 1 | 1,197 | 5/60 | 95.76
Satisfaction data from families of ETM youth | ᵐ 1,197 | 1 | 1,197 | 5/60 | 95.76
Satisfaction data from ETM employers | ⁿ 96 | 1 | 96 | 5/60 | 77.68
Satisfaction data from ETM project partners | ᵒ 128 | 1 | 128 | 5/60 | 10.67
Employment and Education Outcomes:
Information on outcomes from ETM youth | ᵖ 240 | 3 | 720 | 4/60 | 14.4
Information on outcomes recorded by ETM and AJC staff | q 81 | 12 | 972 | 4/60 | 68.04
Total | ʳ 44,192 |  | 11,360 |  | 1,176
General: The table reports integer values for the annual number of respondents and responses. In cases when underlying assumptions about totals over the three-year period covered by PRA clearance resulted in a fractional count of respondents per year, that count was rounded upward to the nearest integer. When the estimate of average burden hours is less than one, the table reports the value as the fraction of 60 minutes.
ᵃ Assumes approximately 2,682 youth enrolled in ETM over the three-year demonstration period across all four grantees.
ᵇ Assumes ETM grantee and partner staff will record information about referral pathways for all ETM youth.
ᶜ Assumes that (i) ETM grantee and partner staff will collect service-receipt data for all ETM youth, (ii) an equal number of youth will be enrolled each year, (iii) the data will be recorded quarterly between when youth enroll and when they exit from ETM or the end of the three-year period covered by PRA clearance (whichever comes first), (iv) and the average length of participation in ETM will be two years.
ᵈ Assumes interviews with the four ETM project directors, twice during data collection period.
ᵉ Assumes interviews with 16 ETM local site administrators at all four grantees, twice during data collection period.
ᶠ Assumes interviews with 48 ETM case managers across all four grantees, twice during data collection period.
ᵍ Assumes surveying 19 ETM local site administrators, twice during data collection period.
ʰ Assumes interviews with 19 ETM local site administrators, twice during data collection period.
ⁱ Assumes 80 interviews across four grantees once during data collection period.
ʲ Assumes 4 focus groups with up to 8 parents/guardians each, twice during data collection period.
ᵏ Assumes interviews with 20 employers across four grantees, once during data collection period.
ˡ Assumes satisfaction questions will be asked annually, and 80 percent of youth will respond. Additionally assumes that a two-year average period of youth participation in ETM, resulting in up to two responses from two thirds of youth and at most one response from one third youth during the three-year period covered by PRA clearance.
ᵐ Assumes satisfaction questions will be asked annually, and 80 percent of families will respond. Additionally assumes that a two-year average period of youth participation in ETM, resulting in up to two responses from two thirds of families and at most one response from one third families during the three-year period covered by PRA clearance.
ⁿ Assumes satisfaction questions will be asked annually, and 80 percent of employers will respond. Additionally assumes an average of 8 employer partners across 4 sites (32 employers) responding to quarterly surveys, all of which will remain throughout the three-year-period covered by the PRA clearance.
ᵒ Assumes satisfaction questions will be asked quarterly, and 80 percent of project partners will respond. Additionally assumes an average of 10 employer partners across 4 sites, (40 partners), and that all initial project partners will remain on the project during the three-year period covered by PRA clearance. Project partners include, but are not limited to: Youth agencies and service providers; Disability agencies and service providers; Local health and mental health agencies and providers; Parent organizations and service providers; K-12 local education agencies; American Job Centers (sometimes known as One-Stop Career Centers); One or more community college(s), technical institution(s), four-year colleges/universities, or other education partners that can provide education and training activities; and One or more business or industry partners (such as business membership associations or Chambers of Commerce) that will participate in defining the program strategies and goals and be actively involved in participating in funded project activities.
ᵖ Assumes employment and education information will be collected during the year after youth exit from services, 33 percent of ETM youth will reach the end of the first post-service year during the three-year period covered by PRA clearance, and 80 percent of youth will respond to requests for information.
q Assumes that ETM and AJC staff will obtain and record information on employment and education for an approximately equal number of youth during the year after youth exit from services, 33 percent of ETM youth will reach the end of the first post-service year during the three-year period covered by PRA clearance, 80 percent of these youth will respond to requests for information, and staff will obtain administrative data for 100 percent of the youth.
ʳ The total annual number of respondents is a sum of the rows in the table above and does not adjust for potential overlap between respondent groups across rows.

Sheng Li,
Principal Deputy Assistant Secretary, U.S. Department of Labor.

[FR Doc. 2025-18212 Filed 9-18-25; 8:45 am]

BILLING CODE 4510-HX-P